SECURITIES AND EXCHANGE COMMISSION

[Release No. 34-48687]

Order Canceling Registrations of Certain Transfer Agents

October 23, 2003.

On May 22, 2003, notice was published in the Federal Register that the Securities and Exchange Commission (Commission) intended to issue an order, pursuant to section 17A(c)(4)(B) of the Securities Exchange Act of 1934 (Exchange Act),¹ canceling the registrations of the transfer agents whose names appear in the attached Appendix.² For the reasons discussed below, the Commission is canceling the registration of each of the transfer agents identified in the attached Appendix.

¹ 15 U.S.C. 78q-1(c)(4)(B).

² Securities Exchange Act Release No. 47878 (May 15, 2003), 68 FR 28038 (May 22, 2003).

FOR FURTHER INFORMATION CONTACT: Jerry W. Carpenter, Assistant Director, or Catherine Moore, Special Counsel, at 202/942-4187, Division of Market Regulation, Securities and Exchange Commission, 450 Fifth Street, NW., Washington, DC 20549-1001.

Background and Discussion

Section 17A(c)(4)(B) of the Exchange Act provides that if the Commission finds that any transfer agent registered with the Commission is no longer in existence or has ceased to do business as a transfer agent, the Commission shall by order cancel that transfer agent's registration. On May 15, 2003, the Commission issued Notice of Intention to Cancel Registrations of Certain Transfer Agents (Notice) that identified 14 transfer agents that the Commission believed were no longer in existence or had ceased doing business as transfer agents. The Notice stated that at any time after June 23, 2003, which was 30 days after the Notice was published in the Federal Register, the Commission intended to issue an order canceling the registrations of any or all of the identified transfer agents. One of the identified transfer agents submitted a Form TA-W, Notice of Withdrawal from Registration as a Transfer Agent. None of the remaining 13 identified transfer agents have contacted the Commission to object to the cancellation of their registrations.

Accordingly, the Commission is canceling the registration of each of the 13 transfer agents identified on the Appendix to the Order.

Order

On the basis of the foregoing, the Commission finds that each of the transfer agents whose name appears on the attached Appendix either is no longer in existence or has ceased doing business as a transfer agent.

It is therefore ordered, pursuant to Section 17A(c)(4)(B) of the Exchange Act, that the registration as a transfer agent of each of the transfer agents whose name appears in the attached Appendix be and hereby is canceled.

For the Commission by the Division of Market Regulation, pursuant to delegated authority.³
³ 17 CFR 200.30-3(a)(22).
Margaret H. McFarland,
Deputy Secretary.

Appendix

Registration Number/Name

(84-5920)—The Axess Media Group, LTD

(84-5826)—Corey L. Lewis

(84-5847)—Financial Strategies, LLC

(84-5756)—IDM Corporation

(84-5727)—Impact Administrative Services, Inc.

(84-1208)—MLH Depositary Inc.

(84-5875)—NAVCAP Securities Inc.

(84-5647)—Penn Street Advisors, Inc.

(84-5834)—Reserve General Escrow Company

(84-682)—Swiss Chalet, Inc.

(84-191)—Texaco Inc.

(84-986)—The Troy Investment Fund

(84-1947)—Vermont Fund Advisors, Inc.

[FR Doc. 03-27309 Filed 10-29-03; 8:45 am]

BILLING CODE 8010-01-P